DEPARTMENT OF TRANSPORTATION

Federal Aviation Administration

14 CFR Part 39

[Docket No. FAA-2019-1075; Product Identifier 2019-NM-189-AD; Amendment 39-19890; AD 2020-07-11]

RIN 2120-AA64

Airworthiness Directives; ATR-GIE Avions de Transport Régional Airplanes

AGENCY: Federal Aviation Administration (FAA), Department of Transportation (DOT).

ACTION: Final rule.

SUMMARY: The FAA is adopting a new airworthiness directive (AD) for certain ATR-GIE Avions de Transport Régional Model ATR42 airplanes and Model ATR72 airplanes. This AD was prompted by reports of interference and chafing between a propeller brake hydraulic pipe and an electrical wire bundle bracket screw installed in the underwing box of the right-hand (RH) engine nacelle. This AD requires modification of the electrical wiring routing in the engine nacelles, a one-time detailed visual inspection (DVI) of the propeller brake hydraulic pipe and electrical wire bundle bracket screw head in the underwing box of the RH engine nacelle and, depending on findings, accomplishment of applicable corrective actions, as specified in a European Union Aviation Safety Agency (EASA) AD, which is incorporated by reference. The FAA is issuing this AD to address the unsafe condition on these products.

DATES: This AD is effective May 18, 2020.

The Director of the Federal Register approved the incorporation by reference of a certain publication listed in this AD as of May 18, 2020.

ADDRESSES: For the material incorporated by reference (IBR) in this AD, contact the EASA, Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at https://www.regulations.gov by searching for and locating Docket No. FAA-2019-1075.

Examining the AD Docket

You may examine the AD docket on the internet at https://www.regulations.gov by searching for and locating Docket No. FAA-2019-1075; or in person at Docket Operations between 9 a.m. and 5 p.m., Monday through Friday, except Federal holidays. The AD docket contains this final rule, the regulatory evaluation, any comments received, and other information. The address for Docket Operations is U.S. Department of Transportation, Docket Operations, M-30, West Building Ground Floor, Room W12-140, 1200 New Jersey Avenue SE, Washington, DC 20590.

FOR FURTHER INFORMATION CONTACT: Shahram Daneshmandi, Aerospace Engineer, International Section, Transport Standards Branch, FAA, 2200 South 216th St., Des Moines, WA 98198; telephone and fax 206-231-3220; email shahram.daneshmandi@faa.gov.

SUPPLEMENTARY INFORMATION:

Discussion

The EASA, which is the Technical Agent for the Member States of the European Union, has issued EASA AD 2019-0278, dated November 12, 2019 (“EASA AD 2019-0278”) (also referred to as the Mandatory Continuing Airworthiness Information, or “the MCAI”), to correct an unsafe condition for certain ATR-GIE Avions de Transport Régional Model ATR42-200, -300, -320, -400, and -500 airplanes and Model ATR72-101, -102, -201, -202, -211, -212, and -212A airplanes. Model ATR42-400 airplanes are not certified by the FAA and are not included on the U.S. type certificate data sheet; this AD therefore does not include those airplanes in the applicability.

The FAA issued a notice of proposed rulemaking (NPRM) to amend 14 CFR part 39 by adding an AD that would apply to certain ATR-GIE Avions de Transport Régional Model ATR42 airplanes and Model ATR72 airplanes. The NPRM published in the Federal Register on January 17, 2020 (85 FR 2906). The NPRM was prompted by reports of interference and chafing between a propeller brake hydraulic pipe and an electrical wire bundle bracket screw installed in the underwing box of the RH engine nacelle. The NPRM proposed to require modification of the electrical wiring routing in the engine nacelles; a one-time DVI of the propeller brake hydraulic pipe and electrical wire bundle bracket screw head in the underwing box of the RH engine nacelle; and, depending on findings, accomplishment of applicable corrective actions; as specified in an EASA AD.

The FAA is issuing this AD to address hydraulic pipe damage, which could result in hydraulic leakage and a potential fire in a non-fire-resistant area of the RH engine nacelle when the propeller brake is activated or deactivated while the airplane is on the ground. See the MCAI for additional background information.

Comments

The FAA gave the public the opportunity to participate in developing this final rule. The FAA received no comments on the NPRM or on the determination of the cost to the public.

Conclusion

The FAA reviewed the relevant data and determined that air safety and the public interest require adopting this final rule as proposed, except for minor editorial changes. The FAA has determined that these minor changes:

• Are consistent with the intent that was proposed in the NPRM for addressing the unsafe condition; and

• Do not add any additional burden upon the public than was already proposed in the NPRM.

Related IBR Material Under 1 CFR Part 51

EASA AD 2019-0278 describes procedures for a modification of the electrical wiring routing in the engine nacelles, followed by a one-time DVI of the propeller brake hydraulic pipe and electrical wire bundle bracket screw head in the underwing box of the RH engine nacelle and, depending on findings, accomplishment of applicable corrective actions. Corrective actions include hydraulic pipe replacement and repair. This material is reasonably available because the interested parties have access to it through their normal course of business or by the means identified in the ADDRESSES section.

Costs of Compliance

The FAA estimates that this AD affects 62 airplanes of U.S. registry. The FAA estimates the following costs to comply with this AD:

Estimated Costs for Required Actions
Labor cost | Parts cost | Cost per product | Cost on U.S. operators
4 work-hours × $85 per hour = $340 | $135 | $475 | $29,450

Estimated Costs of On-Condition Actions
Labor cost | Parts cost | Cost per product
6 work-hours × $85 per hour = $510 | $1,075 | $1,585

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-07-11 ATR—GIE Avions de Transport Régional: Amendment 39-19890; Docket No. FAA-2019-1075; Product Identifier 2019-NM-189-AD.

(a) Effective Date

This AD is effective May 18, 2020.

(b) Affected ADs

None.

(c) Applicability

This AD applies to the ATR-GIE Avions de Transport Régional airplanes identified in paragraphs (c)(1) and (2) of this AD, certificated in any category, as identified in European Union Aviation Safety Agency (EASA) AD 2019-0278, dated November 12, 2019 (“EASA AD 2019-0278”).

(1) Model ATR42-200, -300, -320, and -500 airplanes.

(2) Model ATR72-101, -102, -201, -202, -211, -212, and -212A airplanes.

(d) Subject

Air Transport Association (ATA) of America Code 29, Hydraulic power; and 92, Electronic common installation.

(e) Reason

This AD was prompted by reports of interference and chafing between a propeller brake hydraulic pipe and an electrical wire bundle bracket screw installed in the underwing box of the right-hand (RH) engine nacelle. The FAA is issuing this AD to address hydraulic pipe damage, which could result in hydraulic leakage and a potential fire in a non-fire-resistant area of the RH engine nacelle when the propeller brake is activated or deactivated while the airplane is on the ground.

(f) Compliance

Comply with this AD within the compliance times specified, unless already done.

(g) Requirements

Except as specified in paragraph (h) of this AD: Comply with all required actions and compliance times specified in, and in accordance with, EASA AD 2019-0278.

(h) Exceptions to EASA AD 2019-0278

(1) Where EASA AD 2019-0278 refers to its effective date, this AD requires using the effective date of this AD.

(2) The “Remarks” section of EASA AD 2019-0278 does not apply to this AD.

(i) No Reporting Requirement

Although the service information referenced in EASA AD 2019-0278 specifies to submit certain information to the manufacturer, this AD does not include that requirement.

(j) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (k) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or ATR-GIE Avions de Transport Régional's EASA Design Organization Approval (DOA). If approved by the DOA, the approval must include the DOA-authorized signature.

(k) Related Information

For more information about this AD, contact Shahram Daneshmandi, Aerospace Engineer, International Section, Transport Standards Branch, FAA, 2200 South 216th St., Des Moines, WA 98198; telephone and fax 206-231-3220; email shahram.daneshmandi@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2019-0278, dated November 12, 2019.

(ii) [Reserved]

(3) For information about EASA AD 2019-0278, contact the EASA, Konrad-Adenauer-Ufer 3, 50668 Cologne, Germany; telephone +49 221 89990 6017; email ADs@easa.europa.eu; internet www.easa.europa.eu. You may find this EASA AD on the EASA website at https://ad.easa.europa.eu.

(4) You may view this material at the FAA, Transport Standards Branch, 2200 South 216th St., Des Moines, WA. For information on the availability of this material at the FAA, call 206-231-3195. This material may be found in the AD docket on the internet at https://www.regulations.gov by searching for and locating Docket No. FAA-2019-1075.

(5) You may view this material that is incorporated by reference at the National Archives and Records Administration (NARA). For information on the availability of this material at NARA, email fedreg.legal@nara.gov, or go to: https://www.archives.gov/federal-register/cfr/ibr-locations.html.

Issued on April 3, 2020.
Lance T. Gant,
Director, Compliance & Airworthiness Division, Aircraft Certification Service.

[FR Doc. 2020-07648 Filed 4-10-20; 8:45 am]

BILLING CODE 4910-13-P